DEPARTMENT OF DEFENSE

Office of the Secretary

[Docket ID: DoD-2015-OS-0088]

Proposed Collection; Comment Request

AGENCY: Office of the Assistant Secretary of Defense for Personnel and Readiness, DoD.

ACTION: Notice.

SUMMARY: In compliance with the Paperwork Reduction Act of 1995, the Office of the Assistant Secretary of Defense for Personnel and Readiness announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by October 26, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Deputy Assistant Secretary of Defense, Military Community and Family Policy, ATTN: Casualty Affairs, 4000 Defense Pentagon, Washington, DC 20301-4000.

SUPPLEMENTARY INFORMATION: Title; Associated Form; and OMB Number: Questionnaire of Local Inhabitants, DD Form 1074; Disposition of Civilian Remains, DD Form 3004; OMB Control Number 0704-XXXX.

Needs and Uses: The information collection requirement is necessary to obtain and document information from local inhabitants on the location and circumstances surrounding the death of U.S. personnel for whom the Department has responsibility to recover and provide mortuary services and to obtain and document the election of the person authorized to effect disposition of civilian remains for whom the Department provides mortuary services. If the person authorized to effect disposition does not sign this form, then the Department cannot provide mortuary and transportation services in accordance with their elections or instructions to the extent allowed by statute or DoD policy. This collection is authorized by 10 U.S. Code sections 1481 through 1488. In addition, the Secretary of Defense directed the addition of these forms to ensure transparency and standardization of the mortuary procedures as defined in the Final Report of the Dover Port Mortuary Independent Review Subcommittee Implementation Plan and 180-day study. Currently there is a lack of standardization across the Military Services, as each Service currently utilizes different forms for this election and they do not all capture the same information even on similar forms. Standardizing the information collected is essential in maintaining the transparency and integrity of the mortuary affairs process.

Affected Public: Business or other for profit; Person Authorized to Effect Disposition (PAED); family members of the deceased; local inhabitants.

Annual Burden Hours: 60.

Number of Respondents: 120.

Responses per Respondent: 1.

Average Burden per Response: 30 minutes.

Frequency: On occasion.

The respondents are the person authorized to effect disposition of the civilian decedent for whom mortuary services as described on DD Form 3004 is recommended or required, and the DoD witness to that election. The person authorized to effect disposition documents their election on DD Form 3004, and signs the form. The election and signature are witnessed by a military service member or DoD civilian to formalize this process and document the election. This form becomes a part of the Official Individual Deceased Personnel File. If the person authorized to effect disposition does not sign this form, then the Department cannot provide the authorized mortuary and transportation services.

The respondents for DD Form 1074 are the Military Service Member and the local inhabitant being interviewed. The Service Member is the individual completing the form, however in the process information is collected on the person interviewed. This form becomes a part of the Official Individual Deceased Personnel File. This form documents the location and circumstances surrounding a deceased individual as applicable.

Currently there is a lack of standardization across the Military Services, as each Service currently utilizes different forms for these elections and documentation and they do not all capture the same information even on similar forms. Standardizing the information collected is essential in maintaining the transparency and integrity of the mortuary affairs process.

Dated: August 21, 2015.
Aaron Siegel,
Alternate OSD Federal Register Liaison Officer, Department of Defense.

[FR Doc. 2015-21129 Filed 8-25-15; 8:45 am]

BILLING CODE 5001-06-P